DEPARTMENT OF VETERANS AFFAIRS

[OMB Control No. 2900-XXXX]

Agency Information Collection Activity: Veteran Rapid Retraining Assistance Program (VRRAP) 30, 60, 90, 180-Day Experience Survey, and VRRAP Experience Survey After Employment

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-XXXX.

FOR FURTHER INFORMATION CONTACT: Maribel Aponte, Office of Enterprise and Integration, Data Governance Analytics (008), 1717 H Street NW, Washington, DC 20006, (202) 266-4688 or email maribel.aponte@va.gov. Please refer to “OMB Control No. 2900-XXXX” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 117-2 § 8006 and Public Law 117-16.

Title: Veteran Rapid Retraining Assistance Program (VRRAP) 30, 60, 90, 180-Day Experience Survey, and VRRAP Experience Survey After Employment.

OMB Control Number: 2900-XXXX.

Type of Review: New Information Collection.

Abstract: These VRRAP Surveys submitted for OMB's approval through regular ICR 3-year collection for the Collection of Qualitative Feedback on Agency Service Delivery” is being submitting based on the recently enacted “Training in High-demand Roles to Improve Veteran Employment Act” (THRIVE ACT) legislation. This new Public Law 117-16 amended the Veteran Rapid Retraining Assistance Program (VRRAP), Public Law 117-2 Section 8006 by requiring VA, in coordination with Department of Labor (DOL), to contact each Veteran who completes a covered program of education under the retraining assistance program 30, 60, 90, and 180 days after the Veteran completes the program of education to ask about their experience in the retraining assistance program and their employment status.

The Thrive Act legislation also specifies that a Veteran participating in a covered program of education solely through distance learning on a half-time basis or less would not receive a housing stipend, and it clarifies the housing stipend amount provided to a Veteran when participating in a program on a half-time basis or less. The Thrive Act also requires VA, in consultation with the DOL to contact each participating Veteran no later than 30 days after the date the Veteran begins the program of education, to notify them of employment placement services available upon completion of the program; and to, no later than 14 days after the date the Veteran completes, or terminates participation in the program, to facilitate the provision of employment placement services to the Veteran.

The Thrive Act also requires VA to enter into a Memorandum of Understanding with one or more qualified nonprofit organizations to facilitate the employment of Veterans who participate in the retraining assistance program. A qualified non-profit organization is an organization that is an association of businesses and has at least two years of experience providing job placement services for Veterans. And finally, the legislation requires DOL, no later than one year after the date of the Thrive Act enactment, to submit a report to the Committees on Veterans' Affairs of the Senate and House of Representatives.

The report must contain the percentage of Veterans who found employment before the end of the second calendar quarter after exiting the program; the percentage of Veterans who found employment before the end of the fourth calendar quarter after exiting the program; the median earnings of Veterans for the second quarter after exiting the program; and the percentage of Veterans who attain a recognized postsecondary credential during the 12-month period after exiting the program, and would require the Comptroller General of the United States to submit a report to Congress on the outcomes and effectiveness of the retraining program not later than 180 days after the termination of the retraining assistance program, December 11, 2022. Feedback from the Surveys will be used for that purpose.

The feedback will also provide insights into the eligible beneficiaries' perceptions, experiences and expectations, provide an early warning of issues with service, or focus attention on areas where communication, training, or changes in operations might improve delivery of products or services. This collection will allow for ongoing, collaborative and actionable communications between VA and Veteran Rapid Retraining Assistance Program (VRRAP) participants regarding their needs for employment assistance. It will also allow feedback to contribute directly to the improvement of the VRRAP program management.

Improving agency programs requires ongoing assessment of service delivery, by which we mean systematic review of the operation of a program compared to a set of explicit or implicit standards, as a means of contributing to the continuous improvement of the program. VA will collect, analyze, and interpret information gathered through this regular ICR submission survey to identify strengths and weaknesses of current services and make improvements in service delivery based on feedback. The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on VA's services will be unavailable.

The type of regular ICR survey collection is limited only as:

• Web-Based or other forms of social media and email

An agency may not conduct or sponsor, and a person is not required to respond to a collection of information unless it displays a currently valid OMB control number.

The Federal Register Notice with a 60-day comment period soliciting comments on this collection of information was published at 87 FR 84 on May 2, 2022, page 25701.

Affected Public: Individuals and households.

Estimated Annual Burden: 830 hours.

Estimated Average Burden per Respondent: 2 minutes.

Frequency of Response: Four (4) per year (Quarterly).

Estimated Number of Respondents: 6,225.

By direction of the Secretary.
Maribel Aponte,
VA PRA Clearance Officer, Office of Enterprise and Integration/Data Governance Analytics, Department of Veterans Affairs.

[FR Doc. 2022-14670 Filed 7-8-22; 8:45 am]

BILLING CODE 8320-01-P